DEPARTMENT OF TRANSPORTATION

Maritime Administration

U.S. Merchant Marine Academy Board of Visitors

AGENCY: Maritime Administration, DOT.

ACTION: Notice of U.S. Merchant Marine Academy Board Public Meeting.

SUMMARY: The U.S. Department of Transportation, Maritime Administration (MARAD) announces that the following U.S. Merchant Marine Academy (Academy) Board of Visitors (BOV) meeting will take place:

1. Date: December 14, 2018.

2. Time: 9:00 a.m.-3:00 p.m.

3. Location: U.S. Merchant Marine Academy, Kings Point, NY, Crabtree Room, Schuyler Otis Bland Memorial Library.

4. Purpose of the Meeting: The purpose of this meeting is to:

(a) Introduce the new Academy Superintendent and Academic Dean/Provost.

(b) Provide a briefing on the Critical Infrastructure Plan, the infrastructure spending plan and ongoing capital improvements.

(c) Provide an update on the general state of the Academy, Class of 2022 performance, and status of incoming class of 2023.

(d) Provide an update on the Sexual Assault/Sexual Harassment program progress.

(e) Provide an update on the status of implementing the 5-year Strategic Plan.

(f) Establish the meeting schedule for CY 2019.

5. Public Access to the Meeting: This meeting is open to the public. Seating is on a first-come basis. Members of the public wishing to attend the meeting will need to show photo identification to gain access to the meeting location.

FOR FURTHER INFORMATION CONTACT: The BOV's Designated Federal Officer and Point of Contact Brian Blower, 202-366-2765 or Brian.Blower@dot.gov.

SUPPLEMENTARY INFORMATION: Any member of the public is permitted to file a written statement with the Academy BOV. Written statements should be sent to the Designated Federal Officer at: Brian Blower; 1200 New Jersey Ave. SE W28-314, Washington, DC 20590 or via email at Brian.Blower@Dot.gov. (Please contact the Designated Federal Officer for information on submitting comments via fax.) Written statements must be received no later than three working days prior to the meeting in order to provide time for member consideration. Only written statements will be considered by the BOV, no member of the public will be allowed to present questions from the floor or speak to any issue under consideration by the BOV unless requested to do so by a member of the Board.

(Authority: 46 U.S.C. 51312; 5 U.S.C. app. 552b; 41 CFR parts 102-3.140 through 102-3.165).

Dated: December 3, 2018.
By Order of the Maritime Administrator.
T. Mitchell Hudson, Jr.,
Secretary, Maritime Administration.

[FR Doc. 2018-26529 Filed 12-6-18; 8:45 am]

BILLING CODE 4910-81-P